INTERNATIONAL TRADE COMMISSION

[Investigations Nos. 701-TA-355 (Review) and 731-TA-659-660 (Review)]

Grain-Oriented Silicon Electrical Steel From Italy and Japan

AGENCY: International Trade Commission.

ACTION: Revised schedule for full five-year reviews concerning the countervailing duty and antidumping duty orders on grain-oriented silicon electrical steel from Italy and Japan.

EFFECTIVE DATE: November 27, 2000.

FOR FURTHER INFORMATION CONTACT: Karen Taylor (202-708-4101), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On August 10, 2000, the Commission established a schedule for the conduct of the subject full five-year reviews (Federal Register 65 FR 50004, August 16, 2000). On November 16, 2000, the Commission received a request from a party to the full five-year reviews to postpone the hearing date. The Commission, therefore, is revising its schedule to make the appropriate adjustments in the scheduling of these reviews.

The Commission's new schedule for these reviews is as follows: the hearing will be held at the U.S. International Trade Commission Building at 9:30 a.m. on January 11, 2001; the deadline for filing posthearing briefs is January 19, 2001; the Commission will make its final release of information to parties on February 6, 2001; and final party comments are due on February 8, 2001.

Authority: These reviews are being conducted under authority of title VII of the Tariff Act of 1930; this notice is published pursuant to section 207.62 of the Commission's rules.

Issued: November 28, 2000.
By order of the Commission.
Donna R. Koehnke,
Secretary.

[FR Doc. 00-30675 Filed 11-30-00; 8:45 am]

BILLING CODE 7020-02-P